DEPARTMENT OF TRANSPORTATION

Federal Aviation Administration

14 CFR Part 39

[Docket No. FAA-2007-27926; Directorate Identifier 2006-NM-050-AD; Amendment 39-15316; AD 2007-26-14]

RIN 2120-AA64

Airworthiness Directives; Airbus Model A300 Airplanes; and Model A300 B4-600, B4-600R, and F4-600R Series Airplanes, and Model C4-605R Variant F Airplanes (Collectively Called A300-600 Series Airplanes)

AGENCY: Federal Aviation Administration (FAA), Department of Transportation (DOT).

ACTION: Final rule.

SUMMARY: The FAA is superseding an existing airworthiness directive (AD), which applies to all Airbus Model A300 B2 and B4 series airplanes; and all Model A300 B4-600, B4-600R, and F4-600R (collectively called A300-600) series airplanes. That AD currently requires repetitive inspections to detect cracking of the upper radius of the forward fitting of frame 47, and repair if necessary. This new AD retains those requirements, but reduces inspection thresholds and repetitive intervals, and adds related investigative and corrective actions. This AD also provides an optional terminating action for the repetitive inspections only for airplanes with cracking that is within certain limits, and a post-repair inspection program following the optional terminating action. This AD results from reports of additional cracking in airplanes that were inspected in accordance with the existing AD. We are issuing this AD to detect and correct fatigue cracking of the left and right upper radius at frame 47, which could propagate and result in reduced structural integrity of the airplane.

DATES: This AD becomes effective February 20, 2008.

The Director of the Federal Register approved the incorporation by reference of certain publications listed in the AD as of February 20, 2008.

On May 1, 2003 (68 FR 14894, March 27, 2003), the Director of the Federal Register approved the incorporation by reference of certain publications listed in the AD.

ADDRESSES: For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Thomas Stafford, Aerospace Engineer, International Branch, ANM-116, FAA, Transport Airplane Directorate, 1601 Lind Avenue, SW., Renton, Washington 98057-3356; telephone (425) 227-1622; fax (425) 227-1149.

SUPPLEMENTARY INFORMATION:

Discussion

The FAA issued a notice of proposed rulemaking (NPRM) to amend 14 CFR part 39 to include an AD that supersedes AD 2003-06-04, amendment 39-13091 (68 FR 14894, March 27, 2003). The existing AD applies to all Airbus Model A300 B2 and B4 series airplanes; and all Model A300 B4-600, B4-600R, and F4-600R (collectively called A300-600) series airplanes. That NPRM was published in the Federal Register on April 20, 2007 (72 FR 19818). That NPRM proposed to continue to require repetitive inspections to detect cracking of the upper radius of the forward fitting of frame 47, and repair if necessary. That NPRM also proposed to reduce inspection thresholds and repetitive intervals, and to add related investigative and corrective actions. That NPRM also proposed to provide an optional terminating action for the repetitive inspections only for airplanes with cracking that is within certain limits.

Comments

We provided the public the opportunity to participate in the development of this AD. We have considered the comments that have been received on the NPRM.

Request To Clarify Requirements of Paragraph (l) of the NPRM

Air Transport Association (ATA), on behalf of its member American Airlines (AA), and supported by Airbus, points out that paragraph (l)(2) of the NPRM specifies performing repetitive inspections on airplanes with cracks “30 millimeters (mm) (1.181 inch) or less in length.” AA believes that the length should be 50 mm. AA explains that Table 2 (Figure 1, Sheet 1) of Airbus Service Bulletin A300-53-6029, Revision 08, dated October 19, 2005 (for Model A300-600 series airplanes), allows repetitive inspections for cracks equal to or less than 50 mm. AA also points out that the table titled “Related Investigative and Corrective Actions Following Eddy Current Inspection” in the “Relevant Service Information” section of the NPRM states that repetitive inspections are applicable for cracks equal to or less than 50 mm in size.

We agree that paragraph (l)(2) of the NPRM needs to be clarified. Therefore, we have revised paragraph (l)(2) of the AD to clarify the crack size that applies to each model.

Request To Apply Certain Actions Only to Airplanes With Known Cracks

ATA, on behalf of its member AA, states that paragraph (m), “Abnormal Load Events,” of the NPRM should apply only to airplanes with known cracks. Airbus supports this statement. AA explains that Figure 1, Sheet 1, of Airbus Service Bulletin A300-53-6029, Revision 08, requires the inspections only if a crack exists. AA also points out that the table titled “Related Investigative and Corrective Actions Following Eddy Current Inspection” in the “Relevant Service Information” section of the NPRM states that the inspection is for an “abnormal load event on an airplane with any crack finding.”

We agree with the commenters for the reasons stated by the commenters. Paragraph (m) of the AD should apply only to airplanes with known cracks. We have revised paragraph (m) of this AD to state that it applies only to airplanes on which any crack was found during any inspection required by this AD.

Request To Refer to Latest Revision of Service Bulletin

Airbus states that Airbus Service Bulletin A300-53-6144, dated July 16, 2004, which we referred to in the NPRM as the appropriate source of service information for accomplishing the optional terminating action, has now been revised. Airbus requests that we refer to Airbus Service Bulletin A300-53-6144, Revision 01, dated October 15, 2007.

We agree with the request to refer to Revision 01 of Airbus Service Bulletin A300-53-6144. The procedures in Revision 01 and the original issue are essentially the same. Revision 01 revises the effectivity of the service bulletin, but states that no additional work is required for airplanes modified in accordance with the previous issue. We have revised paragraph (n) of this AD to refer to Revision 01 of the service bulletin. We have also revised paragraph (r) of this AD to give credit to operators that have accomplished the actions in accordance with the previous issue of the service bulletin.

Request To Revise Contact Information

Airbus requests that we revise the address for submitting reports of inspection findings in paragraph (q) of the NPRM. We have revised paragraph (q) of the AD to include the information provided by Airbus.

Explanation of Clarifications

We have clarified paragraph (m) of the AD by replacing the “or” with an “and” in the statement “Do the actions in paragraph (m)(1), (m)(2), or (m)(3), as applicable * * *” An “and” in this case more clearly conveys the intent of the paragraph because it is possible that operators might need to do more than one of those actions.

We have also revised paragraph (s)(2) of the AD to clarify the appropriate procedure for notifying the principal inspector before using any approved AMOC on any airplane to which the AMOC applies.

Conclusion

We have carefully reviewed the available data, including the comments that have been received, and determined that air safety and the public interest require adopting the AD with the changes described previously. We have determined that these changes will neither increase the economic burden on any operator nor increase the scope of the AD.

Costs of Compliance

There are about 163 U.S.-registered airplanes that are affected by this AD. The following table provides the estimated costs for U.S. operators to comply with this AD. The average labor rate is $80 per work hour.

Estimated Costs
Action | Work hours | Parts | Cost per airplane | Fleet cost
Actions required by AD 2003-06-04 | 9 | $0 | $720, per inspection cycle | $117,360, per inspection cycle.
Inspection (new action) | 1 | $0 | $80, per inspection cycle | $13,040, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13091 (68 FR 14894, March 27, 2003) and by adding the following new airworthiness directive (AD):

2007-26-14 Airbus: Amendment 39-15316. Docket No. FAA-2007-27926; Directorate Identifier 2006-NM-050-AD.

Effective Date

(a) This AD becomes effective February 20, 2008.

Affected ADs

(b) This AD supersedes AD 2003-06-04.

Applicability

(c) This AD applies to all Airbus Model A300 airplanes; and all Model A300 B4-601, B4-603, B4-620, B4-622, B4-605R, B4-622R, F4-605R, F4-622R, and C4-605R Variant F airplanes; certificated in any category.

Unsafe Condition

(d) This AD results from reports of additional cracking in airplanes that were inspected in accordance with AD 2003-06-04. We are issuing this AD to detect and correct fatigue cracking of the left and right upper radius at frame 47, which could propagate and result in reduced structural integrity of the airplane.

Compliance

(e) You are responsible for having the actions required by this AD performed within the compliance times specified, unless the actions have already been done.

Requirements of AD 2003-06-04

Model A300-600: Inspection

(f) For Model A300-600 series airplanes: At the earlier of the times specified by paragraphs (f)(1) and (f)(2) of this AD, perform an eddy current inspection to detect cracking of the upper radius of the left and right forward fitting of frame 47, in accordance with Airbus Service Bulletin A300-53-6029, Revision 02, dated November 7, 1994; Revision 05, including Appendix 01, dated April 11, 2001; or Revision 08, including Appendix 01, dated October 19, 2005. After the effective date of this AD, only Revision 08 of the service bulletin may be used.

(1) Before the accumulation of 17,300 total flight cycles, or within one year after October 16, 1996 (the effective date of AD 96-18-18, amendment 39-9744), whichever occurs later.

(2) At the later of the times specified by paragraphs (f)(2)(i) and (f)(2)(ii) of this AD.

(i) Before the accumulation of 10,000 total flight cycles or 26,000 total flight hours, whichever occurs first.

(ii) Within 750 flight cycles or 1,900 flight hours, whichever occurs first after May 1, 2003 (the effective date of AD 2003-06-04).

Model A300-600: Follow-On (Repetitive) Inspections

(g) For Model A300-600 series airplanes on which no cracking is found during any inspection required by paragraph (f) of this AD, repeat the inspection required by paragraph (f) of this AD at the applicable times specified in paragraphs (g)(1) and (g)(2) of this AD until the inspection required by paragraph (j) of this AD is done.

(1) If the initial inspection was accomplished before May 1, 2003, repeat the inspection at the later of the times specified in paragraphs (g)(1)(i) and (g)(1)(ii) of this AD. Thereafter, repeat the inspection at intervals not to exceed 6,100 flight cycles or 15,600 flight hours, whichever occurs first.

(i) Re-inspect within 6,100 flight cycles after the initial inspection.

(ii) Re-inspect within 750 flight cycles or 1,900 flight hours, whichever occurs first after May 1, 2003.

(2) If the initial inspection was not accomplished before May 1, 2003, repeat the inspection thereafter at intervals not to exceed 6,100 flight cycles or 15,600 flight hours, whichever occurs first.

Model A300-600: Corrective Action

(h) For Model A300-600 series airplanes on which any cracking is found during any inspection required by paragraph (f) of this AD: Before further flight, contact the Manager, International Branch, ANM-116, Transport Airplane Directorate, FAA; or the Direction Générale de l'Aviation Civile (DGAC) (or its delegated representative); or the European Aviation Safety Agency (EASA) (or its delegated agent); for instructions regarding repair or for an applicable re-inspection interval, in accordance with Airbus Service Bulletin A300-53-6029, Revision 05, including Appendix 01, dated April 11, 2001; or Revision 08, including Appendix 01, dated October 19, 2005. After the effective date of this AD, only Revision 08 may be used. Repair and/or re-inspection accomplished before May 1, 2003, in accordance with a method approved by the Manager, International Branch, ANM-116, is acceptable for compliance with the requirements of paragraph (h) of this AD.

Model A300 B2 and B4: Repetitive Inspections and Follow-On Actions

(i) For Model A300 B2 and B4 series airplanes: At the applicable time specified in paragraph (i)(1), (i)(2), or (i)(3) of this AD, perform repetitive eddy current inspections to detect cracking of the upper radius of the forward fitting of frame 47, left and right sides, per Airbus Service Bulletin A300-53-0246, Revision 03, including Appendix 01, dated April 11, 2001; or Revision 06, including Appendix 01, dated October 19, 2005. After the effective date of this AD, only Revision 06 may be used. Accomplishing this requirement terminates the corresponding inspection requirement of the A300 Supplemental Structural Inspection Document (SSID) for Model A300 B2 and B4 series airplanes. (That SSID is mandated by AD 96-13-11, amendment 39-9679.)

(1) For Model A300 B2 series airplanes: Perform the initial inspection at the later of the times specified by paragraphs (i)(1)(i) and (i)(1)(ii) of this AD. Repeat the inspection thereafter at intervals not to exceed 10,400 flight cycles or 13,300 flight hours, whichever occurs first, until the inspection required by paragraph (j) of this AD is done.

(i) Before the accumulation of 16,500 total flight cycles or 21,000 total flight hours, whichever occurs first.

(ii) Within 1,000 flight cycles or 1,300 flight hours after May 1, 2003, whichever occurs first.

(2) For Model A300 B4-100 series airplanes: Perform the initial inspection at the later of the times specified by paragraphs (i)(2)(i) and (i)(2)(ii) of this AD. Repeat the inspection thereafter at intervals not to exceed 8,500 flight cycles or 16,400 flight hours, whichever occurs first, until the inspection required by paragraph (j) of this AD is done.

(i) Before the accumulation of 10,300 total flight cycles or 19,800 total flight hours, whichever occurs first.

(ii) Within 750 flight cycles or 1,500 flight hours after May 1, 2003, whichever occurs first.

(3) For Model A300 B4-200 series airplanes: Perform the initial inspection at the later of the times specified by paragraphs (i)(3)(i) and (i)(3)(ii) of this AD. Repeat the inspection thereafter at intervals not to exceed 7,000 flight cycles or 13,600 flight hours, whichever occurs first, until the inspection required by paragraph (j) of this AD is done.

(i) Before the accumulation of 11,000 total flight cycles or 21,200 total flight hours, whichever occurs first.

(ii) Within 750 flight cycles or 1,500 flight hours after May 1, 2003, whichever occurs first.

New Requirements of This AD

Inspections and Corrective Actions

(j) At the applicable time in paragraph (k) or (l) of this AD: Except as provided by paragraphs (n) and (p) of this AD, do an eddy current inspection to detect cracking of the upper radius of the forward fitting of frame 47, and do all applicable related investigative and corrective actions, by accomplishing all the applicable actions specified in the Accomplishment Instructions of the applicable service bulletin specified in paragraph (j)(1) or (j)(2) of this AD. Do all applicable investigative and corrective actions before further flight. Where the service bulletins specify to contact Airbus for repair instructions: Before further flight, repair using a method approved by either the Manager, International Branch, ANM-116; or the EASA (or its delegated agent). Doing the inspections required by this paragraph terminates the inspections required by paragraphs (f), (g), and (i) of this AD.

(1) For Airbus Model A300 airplanes: Airbus Service Bulletin A300-53-0246, Revision 06, including Appendix 01, dated October 19, 2005.

(2) For Airbus Model A300 B4-601, B4-603, B4-620, B4-622, B4-605R, B4-622R, F4-605R, F4-622R, and C4-605R Variant F airplanes: Airbus Service Bulletin A300-53-6029, Revision 08, including Appendix 01, dated October 19, 2005.

(k) For airplanes on which the inspection required by paragraph (f), (g), or (i) of this AD, as applicable, has not been done prior to the effective date of this AD: Do the initial inspection required by paragraph (j) of this AD before the accumulation of 10,000 total flight cycles, or within 1,400 flight cycles after the effective date of this AD, whichever occurs later. Repeat the inspection thereafter at the applicable interval specified in Figure 1, Sheet 1, of the Accomplishment Instructions of the applicable service bulletin.

(l) For airplanes on which the inspection required by paragraph (f), (g), or (i) of this AD, as applicable, has been done prior to the effective date of this AD: Inspect at the applicable times specified in paragraph (l)(1) or (l)(2) of this AD. Repeat the inspection thereafter at the applicable interval specified in Figure 1, Sheet 1, of the Accomplishment Instructions of the applicable service bulletin.

(1) For airplanes on which no cracking was found during any inspection required by this AD: Do the next inspection at the earlier of the times specified in paragraphs (l)(1)(i) and (l)(1)(ii) of this AD.

(i) At the next repetitive interval specified in the applicable service bulletin specified in paragraph (j)(1) or (j)(2) of this AD, or within 1,400 flight cycles after the effective date of this AD, whichever occurs later.

(ii) At the next repetitive interval specified in paragraph (g) or (i) of this AD, as applicable.

(2) For airplanes on which any crack was found during any inspection required by this AD, and the crack is the size specified in paragraph (l)(2)(i), (l)(2)(ii), or (l)(2)(iii) of this AD: Do the next inspection at the applicable times specified in paragraph (l)(2)(i), (l)(2)(ii), or (l)(2)(iii) of this AD, as applicable.

(i) For Airbus Model A300 airplanes on which the crack is 30 millimeters (mm) (1.181 inch) or less in length: At the next repetitive interval specified in the service bulletin specified in paragraph (j)(1) of this AD, or within 500 flight cycles after the effective date of this AD, whichever occurs later.

(ii) For Airbus Model A300 airplanes on which the crack is greater than 30 millimeters (mm) (1.181 inch) in length, but less than or equal to 50 mm in length (1.97 inch): At the next repetitive interval specified in paragraph (l) of this AD (Figure 1, Sheet 1, of the Accomplishment Instructions of the applicable service bulletin).

(iii) For Airbus Model A300 B4-601, B4-603, B4-620, B4-622, B4-605R, B4-622R, F4-605R, F4-622R, and C4-605R Variant F airplanes on which the crack is 50 mm (1.97 inch) or less in length: At the next repetitive interval specified in the service bulletin specified in paragraph (j)(2) of this AD; without, however, exceeding the previous inspection interval specified in paragraph (g) of this AD.

Abnormal Load Events

(m) For airplanes on which any crack was found during any inspection required by this AD and on which any abnormal load event occurs after the effective date of this AD: Do the actions in paragraphs (m)(1), (m)(2), and (m)(3) of this AD, as applicable, at the time specified in the applicable paragraph.

(1) Within 3 months after the event, or at the next applicable repetitive interval required by paragraph (k) or (l) of this AD, whichever occurs first: Do the next repetitive inspection required by paragraph (j) of this AD.

(2) Before further flight following any additional abnormal load event that occurs following the first event but before the next repetitive inspection required by paragraph (k) or (l) of this AD: Contact the Manager, International Branch, ANM-116, or the EASA (or its delegated agent), for further instructions.

(3) Within 3 months after any abnormal load event: Report the event to Airbus in accordance with the requirements of paragraph (q) of this AD.

Optional Terminating Action (Repair) for Certain Cracks

(n) Repairing any crack greater than 30 mm but less than or equal to 50 mm in size, in accordance with the Accomplishment Instructions of Airbus Service Bulletin A300-53-0370, including Appendix 01, dated July 16, 2004; or Airbus Service Bulletin A300-53-6144, Revision 01, including Appendix 01, dated July October 15, 2007; as applicable; terminates the repetitive inspection requirements of paragraph (k) or (l) of this AD for that area only. Where the service bulletins specify to contact Airbus for repair instructions: Repair the crack using a method approved by either the Manager, International Branch, ANM-116; or the EASA (or its delegated agent).

Repetitive Inspections Following Optional Terminating Action

(o) Within 6 months after repair in accordance with paragraph (n) of this AD: Submit a post-repair inspection program for monitoring the repair to the Manager, International Branch, ANM-116, for approval.

Repair of Any Crack Greater than 50 mm in Size

(p) If any crack that is greater than 50 mm in size is found during any inspection required by paragraph (j), (k), or (l) of this AD: Before further flight, repair according to a method approved by the Manager, International Branch, ANM-116.

Reporting Requirement

(q) At the applicable time specified in paragraph (q)(1) or (q)(2) of this AD: Submit a report of all results of each inspection required by this AD to Airbus, 1 Rond Point Maurice Bellonte, 31707 Blagnac Cedex, France, Attention: Davide Cavazzini, fax 33-5-61-93-36-14. The report must include the inspection results, a description of any discrepancies found, the airplane serial number, and the number of landings and flight hours on the airplane. Information collection requirements contained in this AD have been approved by the Office of Management and Budget (OMB) under the provisions of the Paperwork Reduction Act (44 U.S.C. 3501 et seq.) and have been assigned OMB Control Number 2120-0056.

(1) For airplanes on which the inspection is accomplished after the effective date of this AD: Submit the report within 30 days after performing the inspection.

(2) For airplanes on which the inspection has been accomplished before the effective date of this AD: Submit the report within 30 days after the effective date of this AD.

Actions Accomplished in Accordance With Previous Issues of Service Bulletins

(r) Actions done before the effective date of this AD in accordance with the service bulletins listed in Table 1 of this AD are acceptable for compliance with the corresponding requirements of paragraphs (i), (j), and (n) of this AD.

Table 1.—Previous Issues of Service Bulletins
Model | Airbus Service Bulletin | Revision level | Date
A300 airplanes | A300-53-0246 | 03 | April 11, 2001.
| A300-53-0246 | 04 | November 12, 2002.
| A300-53-0246 | 05 | January 19, 2004.
A300 B4-601, B4-603, B4-620, B4-622, B4-605R, B4-622R, F4-605R, F4-622R, and C4-605R Variant F airplanes | A300-53-6029 | 05 | April 11, 2001.
| A300-53-6029 | 06 | November 12, 2002.
| A300-53-6029 | 07 | January 19, 2004.
| A300-53-6144 | Original | July 16, 2004.

Alternative Methods of Compliance (AMOCs)

(s)(1) The Manager, International Branch, ANM-116, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2003-06-04 are approved as AMOCs with this AD until paragraph (j) of this AD is accomplished.

Related Information

(t) French airworthiness directive F-2006-016, dated January 18, 2006, also addresses the subject of this AD.

Material Incorporated by Reference

(u) You must use the service information listed in Table 2 of this AD to perform the actions that are required by this AD, unless the AD specifies otherwise.

Table 2.—All Material Incorporated by Reference
Airbus Service Bulletin | Revision level | Date
A300-53-0246, including Appendix 01 | 03 | April 11, 2001.
A300-53-0246, including Appendix 01 | 06 | October 19, 2005.
A300-53-0370, including Appendix 01 | Original | July 16, 2004.
A300-53-6029 | 02 | November 7, 1994.
A300-53-6029, including Appendix 01 | 05 | April 11, 2001.
A300-53-6029, including Appendix 01 | 08 | October 19, 2005.
A300-53-6144, including Appendix 01 | Original | July 16, 2004.

(1) The Director of the Federal Register approved the incorporation by reference of the documents listed in Table 3 of this AD in accordance with 5 U.S.C. 552(a) and 1 CFR part 51.

Table 3.—New Material Incorporated by Reference
Airbus Service Bulletin | Revision level | Date
A300-53-0246, including Appendix 01 | 06 | October 19, 2005.
A300-53-0370, including Appendix 01 | Original | July 16, 2004.
A300-53-6029, including Appendix 01 | 08 | October 19, 2005.
A300-53-6144, including Appendix 01 | Original | July 16, 2004.

(2) On May 1, 2003 (68 FR 14894, March 27, 2003), the Director of the Federal Register approved the incorporation by reference of the documents listed in Table 4 of this AD.

Table 4.—Material Incorporated by Reference in Previous AD
Airbus Service Bulletin | Revision level | Date
A300-53-0246, including Appendix 01 | 03 | April 11, 2001.
A300-53-6029, including Appendix 01 | 05 | April 11, 2001.

(3) On October 16, 1996 (61 FR 47808, September 11, 1996), the Director of the Federal Register approved the incorporation by reference of Airbus Service Bulletin A300-53-6029, Revision 02, dated November 7, 1994.

(4) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on December 19, 2007.
Ali Bahrami,
Manager, Transport Airplane Directorate, Aircraft Certification Service.

[FR Doc. E7-25503 Filed 1-15-08; 8:45 am]

BILLING CODE 4910-13-P